DEPARTMENT OF ENERGY

Environmental Management Site-Specific Advisory Board, Hanford

AGENCY: Office of Environmental Management, Department of Energy.

ACTION: Notice of open in-Person/virtual hybrid meeting: correction.

SUMMARY: On September 23, 2022, the Department of Energy published a notice of open meeting announcing an in-person/virtual hybrid meeting on October 19-20, 2022 of the Environmental Management Site-Specific Advisory Board, Hanford (87 FR 58079). This document makes a correction to that notice.

FOR FURTHER INFORMATION CONTACT: Gary Younger, Federal Coordinator, U.S. Department of Energy, Hanford Office of Communications, Richland Operations Office, P.O. Box 550, Richland, WA 99354; Phone: (509) 372-0923; or Email: gary.younger@rl.doe.gov.

Corrections

In the Federal Register of September 23, 2022, in FR Doc. 2022-20647, on page 58079, please make the following correction:

In that notice under ADDRESSES, third column, third paragraph, the meeting address has been changed. The original address was Holiday Inn Richland on the River, 802 George Washington Way, Richland, WA 99352. The new address is Three Rivers Convention Center, 7016 W Grandridge Boulevard, Kennewick, WA 99336. The reason for the correction is the original venue can no longer host the meeting.

Signing Authority

This document of the Department of Energy was signed on September 27, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 27, 2022.
Treena V. Garrett,
Federal Register Liaison Officer, U.S. Department of Energy.

[FR Doc. 2022-21324 Filed 9-30-22; 8:45 am]

BILLING CODE 6450-01-P